DEPARTMENT OF THE INTERIOR

Bureau of Reclamation

[RR03042000, 19XR0680A1, RX.18786000.1000000; OMB Control Number 1006-0015]

Agency Information Collection Activities; Submission to the Office of Management and Budget for Review and Approval; Diversions, Return Flow, and Consumptive Use of Colorado River Water in the Lower Colorado River Basin

AGENCY: Bureau of Reclamation, Interior.

ACTION: Notice of information collection; request for comment.

SUMMARY: In accordance with the Paperwork Reduction Act of 1995, we, the Bureau of Reclamation (Reclamation) are proposing to renew an information collection.

DATES: Interested persons are invited to submit comments on or before March 13, 2019.

ADDRESSES: Send written comments on this information collection request (ICR) to the Office of Management and Budget's Desk Officer for the Department of the Interior by email at OIRA_Submission@omb.eop.gov; or via facsimile to (202) 395-5806. Please provide a copy of your comments to Mr. Paul Matuska, Bureau of Reclamation, Boulder Canyon Operations Office, Water Accounting and Verification Group, LC-4200, P.O. Box 61470, Boulder City, NV 89006; or by email to pmatuska@usbr.gov. Please reference OMB Control Number 1006-0015 in the subject line of your comments.

FOR FURTHER INFORMATION CONTACT: To request additional information about this ICR, contact Paul Matuska by email at pmatuska@usbr.gov, or by telephone at (702) 293-8164. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 23, 2018 (83 FR 59414). No comments were received.

We are again soliciting comments on the proposed ICR that is described below. We are especially interested in public comment addressing the following issues: (1) Is the collection necessary to the proper functions of Reclamation; (2) will this information be processed and used in a timely manner; (3) is the estimate of burden accurate; (4) how might Reclamation enhance the quality, utility, and clarity of the information to be collected; and (5) how might Reclamation minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Reclamation delivers Colorado River water to water users for diversion and beneficial consumptive use in the States of Arizona, California, and Nevada. The Consolidated Decree of the United States Supreme Court in the case of Arizona v. California, et al., entered March 27, 2006 (547 U.S. 150 (2006)), requires the Secretary of the Interior to prepare and maintain complete, detailed, and accurate records of diversions of water, return flow, and consumptive use and make these records available at least annually. The information collected ensures that a State or water user within a State does not exceed its authorized use of Colorado River Water. Water users are obligated by provisions in their water delivery contracts to provide Reclamation information on diversions and return flows. Reclamation determines the consumptive use by subtracting return flow from diversions or by other engineering means.

Title of Collection: Diversions, Return Flow, and Consumptive Use of Colorado River Water in the Lower Colorado River Basin.

OMB Control Number: 1006-0015.

Form Number: Forms LC-72A, LC-72B, Custom Forms.

Type of Review: Extension of a currently approved collection.

Respondents/Affected Public: The respondents will include the Lower Basin States (Arizona, California, and Nevada), local and tribal entities, water districts, and individuals that use Colorado River water.

Total Estimated Number of Annual Respondents: 53.

Total Estimated Number of Annual Responses: 306.

Estimated Completion Time per Response: See table.

Total Estimated Number of Annual Burden Hours: 51 hours.

Respondent's Obligation: Required to obtain or retain a benefit.

Frequency of Collection: Monthly, annually, or otherwise as stipulated by the entity's water delivery contract with the Secretary of the Interior.

Total Estimated Annual Nonhour Burden Cost: 0.

Monthly/ annual | Form No. | Number of respondents | Minutes/ response | Number responses/ respondent | Total hours/ year | Total responses/ year
Annual | LC-72A | 1 | 10 | 1 | 0.17 | 1
Annual | LC-72B | 12 | 10 | 1 | 2 | 12
Monthly | Custom Forms | 23 | 10 | 12 | 46 | 276
Annual | Custom Forms | 17 | 10 | 1 | 2.8 | 17
Total |  | 53 |  |  | 51 | 306

An agency may not conduct or sponsor and a person is not required to respond to a collection of information unless it displays a currently valid OMB control number.

The authority for this action is the Paperwork Reduction Act of 1995 (44 U.S.C. 3501 et seq.).

Dated: January 9, 2019.
Terrance J. Fulp,
Regional Director, Lower Colorado Region.

[FR Doc. 2019-01925 Filed 2-8-19; 8:45 am]

BILLING CODE 4332-90-P